DEPARTMENT OF COMMERCE

International Trade Administration

The Manufacturing Council: Fact-Finding Meeting

AGENCY: International Trade Administration, U.S. Department of Commerce.

ACTION: Notice of a Fact-Finding Meeting.

SUMMARY: The Manufacturing Council will hold a fact-finding meeting to collect information on the problems manufacturers face in using or adopting renewable energies. The Council is gathering this information for later use for deliberation by the Council in preparing a report for the Secretary of Commerce.

DATES: February 5, 2008.

Time: 1:45 p.m. (EDT).

FOR FURTHER INFORMATION CONTACT: The Manufacturing Council Executive Secretariat, Room 4043, Washington, DC 20230 (Phone: 202-482-1124), or visit the Council's Web site at http://www.manufacturing.gov/council.

Dated: January 10, 2008
Kate Worthington,
Executive Secretary, The Manufacturing Council.

[FR Doc. 08-139 Filed 1-11-08; 4:27 pm]

BILLING CODE 3510-DR-P